DEPARTMENT OF HEALTH AND HUMAN SERVICES

National Institutes of Health

Consensus Development Conference on Total Knee Replacement

Notice is hereby given of the National Institutes of Health (NIH) Consensus Development Conference on “Total Knee Replacement” to be held December 8-10, 2003, in the NIH Natcher Conference Center, 45 Center Drive, Bethesda, Maryland 20892. The conference will begin at 8:30 a.m. on December 8 and 9, and at 9 a.m. on December 10, and will be open to the public.

Total knee replacement (TKR) has shown increasing success in relieving knee pain and improving joint function for patients suffering from knee problems due to injury, degenerative disease, and inflammation. Each year, approximately 300,000 TKR surgeries are performed in the United States for end-stage arthritis of the knee joint. As the number of TKR surgeries performed each year increases and the indications for TKR extend to younger patients, a review of available scientific information is necessary to enhance clinical decision making and stimulate further research.

Despite the increased success of TKR, questions remain concerning which materials and implant designs are most effective for specific patient populations and which surgical approach is optimal for a successful outcome. Physical, social, and psychological issues may influence the success of TKR, and understanding patient differences could facilitate the decision making process before, during, and after surgery, thereby achieving the greatest benefit from TKR. Particular attention also must be given to the treatment and timing options related to the revision of failed TKR surgery.

This two-and-a-half-day conference will examine the current state of knowledge regarding total knee replacement and identify directions for future research.

During the first day-and-a-half of the conference, experts will present the latest research findings on total knee replacement to an independent panel. After weighing all of the scientific evidence, the panel will draft a statement, addressing the following key questions:

—What are the current indications and outcomes for primary TKR?

—How do specific characteristics of the patient, material and design of the prosthesis, and surgical factors affect the short-term and long-term outcomes of primary TKR?

—Are there important perioperative interventions that influence outcomes?

—What are the indications, approaches, and outcomes for revision TKR?

—What factors explain disparities in the utilization of TKR in different populations?

—What are the directions for future research?

On the final day of the conference, the panel chairperson will read the draft statement to the conference audience and invite comments and questions. A press conference will follow, to allow the panel and chairperson to respond to questions from the media.

The primary sponsors of this meeting are the National Institute of Arthritis and Musculoskeletal and Skin Diseases and the NIH Office of Medical Applications of Research. The cosponsors of the meeting are: The National Institute of Child Health and Human Development, the U.S. Food and Drug Administration, the National Institute of Standards and Technology, and the NIH Office of Research on Women's Health.

Advance information about the conference and conference registration materials may be obtained from IQ Solutions of Rockville, Maryland, by calling 301-984-1473 or by sending e-mail to totalknee@iqsolutions.com. IQ Solutions' mailing address is 11300 Rockville Pike, Suite 801, Rockville, MD, 20852. Registration information is also available on the NIH Consensus Program Web site at http://consensus.nih.gov.

Please Note: The NIH has recently instituted new security measures to ensure the safety of NIH employees and property. All visitors must be prepared to show a photo ID upon request. Visitors may be required to pass through a metal detector and have bags, backpacks, or purses inspected or x-rayed as they enter NIH buildings. For more information about the new security measures at NIH, please visit the Web site at http://www.nih.gov/about/visitorssecurity.htm.

Dated: August 12, 2003.
Elias A. Zerhouni,
Director, National Institutes of Health.

[FR Doc. 03-21216 Filed 8-18-03; 8:45 am]

BILLING CODE 4140-01-P